DEPARTMENT OF TRANSPORTATION

Federal Motor Carrier Safety Administration

Solicitation of Applications for FY 2007 Border Enforcement Grant Funding

AGENCY: Federal Motor Carrier Safety Administration (FMCSA), DOT.

ACTION: Notice.

SUMMARY: FMCSA announces that it has published an opportunity to apply for FY2007 Border Enforcement Grant (BEG) funding on the grants.gov Web site. Section 4110 of the Safe, Accountable, Flexible, Efficient Transportation Equity Act: A Legacy For Users established the BEG program. The program is a discretionary grant program that provides funding for border commercial motor vehicle (CMV) safety programs and related enforcement activities and projects. An entity or a State that shares a land border with another country is eligible to receive grant funding. To apply for funding, applicants must register online with the grants.gov Web site (http://www.grants.gov/applicants/get_registered.jsp), and submit an application in accordance with instructions provided. Applications for grant funding must be submitted electronically to the FMCSA through the grants.gov Web site.

DATES: FMCSA will initially consider funding of applications submitted by November 1, 2006 for qualified applicants. If additional funding remains available, applications submitted after November 1, 2006 will be considered on a case-by-case basis. Funds will not be available for allocation until such time as FY2007 appropriations legislation is passed and signed into law.

FOR FURTHER INFORMATION CONTACT: Mr. Milt Schmidt, Federal Motor Carrier Safety Administration, Office of Safety Programs, North American Borders Division (MC-ESB), (518) 431-4239, extension 262, Leo W. O'Brien Federal Building, Room 742, Clinton Avenue and North Pearl Street, Albany, New York 12207. Office hours are from 7:30 a.m. to 4 p.m., e.t., Monday through Friday, except Federal holidays.

Issued on: September 15, 2006.
John H. Hill,
Administrator.

[FR Doc. 06-8121 Filed 9-22-06; 8:45 am]

BILLING CODE 4910-EX-P